DEPARTMENT OF COMMERCE

National Telecommunications and Information Administration

Notice: Request for Applications, Commerce Spectrum Management Advisory Committee; Correction

AGENCY: National Telecommunications and Information Administration, U.S. Department of Commerce.

ACTION: Reopening of Application Period; Date Correction

SUMMARY: On September 10, 2008, the National Telecommunications and Information Administration (NTIA) published a notice in the Federal Register, 73 Fed. Reg. 52646, reopening the deadline for applications from persons interested in serving on the Commerce Spectrum Management Advisory Committee (CSMAC) for new two year terms to commence in December 2008. Due to an administrative error, the application due date published in that notice was incorrect. This notice corrects that error.

DATES: Applications must be postmarked or electronically transmitted on or before September 26, 2008.

ADDRESSES: Persons wishing to submit applications should send their resume or curriculum vita and a statement summarizing the qualifications of the nominee and identifying any particular expertise or area of interest relevant to the CSMAC's work to the attention of Eric Stark, Designated Federal Officer, by mail to Office of Policy Analysis and Development, National Telecommunications and Information Administration, 1401 Constitution Avenue N.W., Room 4725, Washington, DC 20230; by facsimile transmission to (202) 482-6173; or by electronic mail to spectrumadvisory@ntia.doc.gov.

FOR FURTHER INFORMATION CONTACT: Eric Stark at (202) 482-1880 or estark@ntia.doc.gov; or Joe Gattuso at (202) 482-0977 or jgattuso@ntia.doc.gov.

SUPPLEMENTARY INFORMATION: For more information regarding the Commerce Spectrum Management Advisory Committee, please refer to NTIA's website at http://www.ntia.doc.gov/advisory/spectrum/.

Dated: September 15, 2008.
Kathy D. Smith,
Chief Counsel, National Telecommunications and Information Administration.

[FR Doc. E8-21893 Filed 9-17-08; 8:45 am]

BILLING CODE 3510-60-S